DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: National Oceanic and Atmospheric Administration, Office of Education, Educational Partnership Program (EPP) and Ernest F. Hollings Undergraduate Scholarship Program.

Form Number(s): None.

OMB Approval Number: None.

Type of Request: Regular submission.

Burden Hours: 10,020.

Number of Respondents: 2,885.

Average Hours per Response: Undergraduate scholarship applications, 8 hours; graduate sciences program applications, 10 hours; references, 1 hour; alumni updates, 1 hour; student tracker database forms, 16 hours.

Needs and Uses: The National Oceanic and Atmospheric Administration (NOAA) Educational Partnership Program (EPP) collects, evaluates and assesses student data and information for the purpose of selecting successful candidates, generating internal NOAA reports and articles to demonstrate the success of its program. EPP requires applicants to its student scholarship programs to complete an application for NOAA undergraduate and graduate scholarship programs. Part of the application package requires references (e.g., academic professors and advisors) to complete a NOAA student scholar reference form in support of the scholarship application. NOAA EPP student scholar alumni are also requested to provide information for NOAA internal tracking purposes. In addition, the collected student data supports NOAA EPP's program performance measures.

Affected Public: Individuals or households; not-for-profit institutions; State, Local or Tribal Government.

Frequency: Annually or triennially.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: September 21, 2007.
Gwellnar Banks,
Management Analyst, Office of the Chief Information Officer.

[FR Doc. E7-19036 Filed 9-26-07; 8:45 am]

BILLING CODE 3510-22-P